DEPARTMENT OF COMMERCE

International Trade Administration

[A-570-827]

Notice of Initiation and Preliminary Results of Antidumping Duty Changed Circumstances Review and Intent to Revoke Order in Part: Certain Cased Pencils from the People's Republic of China

AGENCY: Import Administration, International Trade Administration, Department of Commerce.

ACTION: Notice of initiation and preliminary results of antidumping duty changed circumstances review and intent to revoke order in part.

SUMMARY: In accordance with section 751(b) of the Tariff Act of 1930, as amended (the Act), and section 351.216(b) of the Department of Commerce's (the Department) regulations, Accoutrements filed a request for a changed circumstances review of the antidumping duty (AD) order on certain cased pencils from the People's Republic of China (PRC). Specifically, Accoutrements requests that the Department revoke the AD order with respect to a large novelty pencil, which is described below. The domestic industry has affirmatively expressed a lack of interest in the continuation of the order with respect to this product. In response to the request, the Department is initiating a changed circumstances review and issuing a notice of preliminary intent to revoke, in part, the AD order on certain cased pencils from the PRC. Interested parties are invited to comment on these preliminary results.

EFFECTIVE DATE: September 22, 2003.

FOR FURTHER INFORMATION CONTACT: Crystal Crittenden or Howard Smith AD/CVD Enforcement, Group II, Office 4, Import Administration, International Trade Administration, U.S. Department of Commerce, 14th Street and Constitution Avenue, NW., Washington, DC 20230; telephone (202) 482-0989 and (202) 482-5193, respectively.,

Background

On July 30, 2003, Accoutrements, a U.S. importer, filed a request with the Department to revoke the AD order on certain cased pencils from the PRC with respect to a large novelty pencil. See Accoutrements letter to the Secretary, dated July 25, 2003 (Accoutrements Request Letter). Specifically, Accoutrements requests that the Department revoke the AD order with respect to imports meeting the following description: novelty jumbo pencil that is octagonal in shape, approximately fourteen inches long, one-and-one quarter inches in diameter, and three-and-three quarter inches in circumference, composed of turned wood imprinted with the word, ACCOUTREMENTS, and the number 2, on one side, encasing one-and-one half inches of sharpened lead on one end and a rubber eraser on the other end. See Accoutrements Request Letter at 1.

On August 11, 2003, the petitioner in the pencils AD proceeding¹ submitted a letter to the Department stating that it “would not support inclusion in the referenced antidumping duty order of a jumbo novelty pencil (approximately 1 foot long and 1 inch in diameter) that a company called Accoutrements is considering importing.” On September 8, 2003, the petitioner submitted a letter to the Department clarifying its August 11, 2003 submission. In its September 8, 2003, letter, the petitioner submitted the following proposed scope language with respect to the above-mentioned jumbo novelty pencil: “Also excluded from the scope of the order are pencils with all of the following physical characteristics: 1) length: 14 or more inches; 2) sheath diameter: not less than one-and-one quarter inches at any point (before sharpening); and 3) core length: not more than 15 percent of the length of the pencil.”

¹ The petitioner is the Pencil Section of the Writing Instrument Manufacturers Association, a trade association composed of domestic pencil producers, and Sanford Corporation, Musgrave Pencil Company, Mood Products, Inc., and General Pencil Company (collectively, the petitioner).

SUPPLEMENTARY INFORMATION:

Scope of the Order

Imports covered by this order are shipments of certain cased pencils of any shape or dimension which are writing and/or drawing instruments that feature cores of graphite or other materials, encased in wood and/or man-made materials, whether or not decorated and whether or not tipped (e.g., with erasers, etc.) in any fashion, and either sharpened or unsharpened. The pencils subject to this order are classified under item number 9609.10.00 of the Harmonized Tariff Schedule of the United States (HTSUS). Specifically excluded from the scope of this order are mechanical pencils, cosmetic pencils, pens, non-cased crayons (wax), pastels, charcoals, chalks, and pencils produced under U.S. patent number 6,217,242, from paper infused with scents by the means covered in the above-referenced patent, thereby having odors distinct from those that may emanate from pencils lacking the scent infusion.

Although the HTSUS item number is provided for convenience and customs purposes, our written description of the scope of the order is dispositive.

Initiation and Preliminary Results of AD Changed Circumstances Review and Intent to Revoke in Part

Section 751(d)(1) of the Act and section 351.222 (g) of the Department's regulations provide that the Department may revoke an AD or countervailing duty order, in whole or in part, after conducting a changed circumstances review and concluding from the available information that changed circumstances sufficient to warrant revocation or termination exist. The Department may conclude that changed circumstances sufficient to warrant revocation (in whole or in part) exist when producers accounting for substantially all of the production of the domestic like product to which the order pertains have expressed a lack of interest in the order, in whole or in part. See section 782(h) of the Act and section 351.222 (g)(1) of the Department's regulations. Based on an affirmative statement by domestic producers of the like product, we find that no interest exists in continuing the AD order with respect to large novelty pencils described in the proposed scope language below. Therefore, we are hereby notifying the public of our preliminary intent to revoke, in part, the AD order on certain cased pencils from the PRC with respect to imports of novelty pencils that meet the description below. We intend to modify the scope of the AD order to read as follows:

Imports covered by this order are shipments of certain cased pencils of any shape or dimension (except as noted below) which are writing and/or drawing instruments that feature cores of graphite or other materials, encased in wood and/or man-made materials, whether or not decorated and whether or not tipped (e.g., with erasers, etc.) in any fashion, and either sharpened or unsharpened. The pencils subject to the order are classified under subheading 9609.10.00 of the Harmonized Tariff Schedules of the United States (HTSUS). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion. Also excluded from the scope of the order are pencils with all of the following physical characteristics: 1) length: 14 or more inches; 2) sheath diameter: not less than one-and-one quarter inches at any point (before sharpening); and 3) core length: not more than 15 percent of the length of the pencil. Although the HTSUS subheading is provided for convenience and customs purposes our written description of the scope of the order is dispositive.

Furthermore, pursuant to section 351.221(c)(3)(ii) of the Department's regulations, because all parties to the proceeding agree to the outcome of the review, we determine that expedited action is warranted and have combined the notices of initiation and preliminary results. If the final partial revocation occurs, we intend to instruct the U.S. Bureau of Customs and Border Protection (BCBP) to liquidate, without regard to applicable antidumping duties, all unliquidated entries of pencils that meet the above-noted specifications, and to refund any estimated antidumping duties collected on such merchandise entered, or withdrawn from warehouse, for consumption on or after December 1, 2001, the day after the most recent period for which the Department issued assessment instructions to BCBP (12/1/2000-11/30/2001), in accordance with 19 CFR 351.222. We will also instruct BCBP to pay interest on such refunds with respect to the subject merchandise entered, or withdrawn from warehouse, for consumption on or after December 1, 2001, in accordance with section 778 of the Act. See Notice of Initiation and Preliminary Results of Changed Circumstances Antidumping Duty Administrative Review, and Intent to Revoke Order in Part: Certain Cut-To-Length Carbon-Quality Steel Plate Products from Japan, 68 FR 1436 (January 10, 2003). The current requirement for a cash deposit of estimated antidumping duties on pencils that meet the above-noted specifications will continue unless, and until, we publish a final determination to revoke the order in part.

Public Comment

Interested parties are invited to comment on these preliminary results. Written comments may be submitted by interested parties not later than 14 days after the date of publication of this notice. Parties who submit argument in this proceeding are requested to submit with the argument (1) a statement of the issue, and (2) a brief summary of the argument. Pursuant to section 351.309(d) of the Department's regulations, rebuttals to written comments, limited to the issues raised in the case briefs, may be filed not later than five days after the deadline for submission of case briefs. Also, interested parties may request a hearing within 10 days of publication of this notice. Any hearing, if requested, will be held no later than two days after the deadline for the submission of rebuttal briefs, or the first workday thereafter. All written comments shall be submitted in accordance with section 351.303 of the Department's regulations and shall be served on all interested parties on the Department's service list. The Department will issue the final results of this review within the time limits established in section 351.216(e) of its regulations.

This notice is published in accordance with section 751(b)(1) of the Act and sections 351.216 and 351.222 of the Department's regulations.

Dated: September 12, 2003.
Joseph A. Spetrini,
Acting Assistant Secretary for Import Administration.

[FR Doc. 03-24127 Filed 9-18-03; 12:01pm]

BILLING CODE 3510-DS-S